DEPARTMENT OF TRANSPORTATION

Federal Aviation Administration

14 CFR Part 39

[Docket No. 2001-SW-25-AD; Amendment 39-12837; AD 2002-15-07]

RIN 2120-AA64

Airworthiness Directives; MD Helicopters, Inc., Model MD900 Helicopters

AGENCY: Federal Aviation Administration, DOT.

ACTION: Final rule.

SUMMARY: This amendment adopts a new airworthiness directive (AD) for MD Helicopters, Inc., Model MD900 helicopters that requires, for the lateral-mixer bellcrank assembly (bellcrank), establishing a life limit, creating a component history card or equivalent record, determining the hours time-in-service (TIS), and applying a serial number (S/N). This amendment is prompted by additional testing that revealed that the original load test to establish the life limits of the bellcrank did not accurately represent the actual loading. The actions specified by this AD are intended to prevent fatigue failure of the bellcrank and subsequent loss of lateral control of the helicopter.

DATES: Effective September 10, 2002.

The incorporation by reference of certain publications listed in the regulations is approved by the Director of the Federal Register as of September 10, 2002.

ADDRESSES: The service information referenced in this AD may be obtained from MD Helicopters Inc., Attn: Customer Support Division, 4555 E. McDowell Rd., Mail Stop M615-GO48, Mesa, Arizona 85215-9734, telephone 1-800-388-3378, fax 480-891-6782, or on the Web at www.mdhelicopters.com. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Jon Mowery, Aviation Safety Engineer, FAA, Los Angeles Aircraft Certification Office, Airframe Branch, 3960 Paramount Blvd., Lakewood, California 90712, telephone (562) 627-5322, fax (562) 627-5210.

SUPPLEMENTARY INFORMATION: A proposal to amend 14 CFR part 39 to include an AD for MD Helicopters, Inc. Model MD900 helicopters was published in the Federal Register on January 16, 2002 (67 FR 2145). That action proposed to require, before further flight, the following for the bellcrank on an affected helicopter:

• Create a component history card or equivalent record.

• Determine the hours TIS of the bellcrank.

• Apply a S/N.

• Remove any affected bellcrank that exceeds the life limit.

This AD would revise the Limitations section of the maintenance manual by establishing a life limit of 13,300 hours TIS for the bellcrank, P/N 900C2010203-105.

Interested persons have been afforded an opportunity to participate in the making of this amendment. No comments were received on the proposal or the FAA's determination of the cost to the public. The FAA has determined that air safety and the public interest require the adoption of the rule as proposed.

The FAA estimates that 30 helicopters of U.S. registry will be affected by this AD, that it will take approximately ½ work hour per helicopter to accomplish the required actions for the bellcrank, and that the average labor rate is $60 per work hour. Required parts will cost approximately $10,120 per helicopter. Based on these figures, the total cost impact of the AD on U.S. operators is estimated to be $304,500, assuming replacement of the bellcranks in all 30 helicopters.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-15-07 MD Helicopters, Inc.: Amendment 39-12837. Docket No. 2001-SW-25-AD.

Applicability: Model MD900 helicopters, serial number (S/N) 900-00008, 900-00010 through 900-00098, and 900-00100, with a lateral-mixer bellcrank assembly (bellcrank), part number (P/N) 900C2010203-105, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Before further flight, unless accomplished previously.

To prevent fatigue failure of the bellcrank and subsequent loss of lateral control of the helicopter, accomplish the following:

(a) Create a component history card or equivalent record for each bellcrank and record the hours time-in-service (TIS) of the bellcrank. If the hours TIS of the bellcrank cannot be determined, use the helicopter's total hours TIS as the hours TIS for the bellcrank.

(b) Apply a S/N to the bellcrank in accordance with the Accomplishment Instructions, paragraph (1)(a) and (1)(b), of MD Helicopters, Inc. Service Bulletin SB 900-084, dated December 3, 2001.

(c) Remove any bellcrank that has exceeded 13,300 hours TIS.

(d) This AD revises the Limitations section of the maintenance manual by establishing a life limit of 13,300 hours TIS for bellcrank, P/N 900C2010203-105.

(e) An alternative method of compliance or adjustment of the compliance time that provides an acceptable level of safety may be used if approved by the Manager, Los Angeles Aircraft Certification Office (LAACO), FAA. Operators shall submit their requests through an FAA Principal Maintenance Inspector, who may concur or comment and then send it to the Manager, LAACO.

Note 2: Information concerning the existence of approved alternative methods of compliance with this AD, if any, may be obtained from the LAACO.

(f) Special flight permits may be issued in accordance with 14 CFR 21.197 and 21.199 to operate the helicopter to a location where the requirements of this AD can be accomplished.

(g) The marking of the S/N shall be done in accordance with the Accomplishment Instructions, paragraphs (1)(a) and (1)(b), of MD Helicopters, Inc. Service Bulletin SB 900-084, dated December 3, 2001. This incorporation by reference was approved by the Director of the Federal Register in accordance with 5 U.S.C. 552(a) and 1 CFR part 51. Copies may be obtained from MD Helicopters Inc., Attn: Customer Support Division, 4555 E. McDowell Rd., Mail Stop M615-GO48, Mesa, Arizona 85215-9734, telephone 1-800-388-3378, fax 480-891-6782, or on the Web at www.mdhelicopters.com. Copies may be inspected at the FAA, Office of the Regional Counsel, Southwest Region, 2601 Meacham Blvd., Room 663, Fort Worth, Texas; or at the Office of the Federal Register, 800 North Capitol Street, NW., suite 700, Washington, DC.

(h) This amendment becomes effective on September 10, 2002.

Issued in Fort Worth, Texas, on July 24, 2002.
Eric Bries,
Acting Manager, Rotorcraft Directorate, Aircraft Certification Service.

[FR Doc. 02-19487 Filed 8-5-02; 8:45 am]

BILLING CODE 4910-13-P